DEPARTMENT OF HEALTH AND HUMAN SERVICES

Centers for Medicare & Medicaid Services

[Document Identifier: CMS-10334]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: Application for Coverage in the Pre-Existing Condition Insurance Plan; Use: The Department of Health and Human Services (HHS) Centers for Medicare & Medicaid Services, Center for Consumer Information and Insurance Oversight is requesting clearance by the Office of Management and Budget for modifications to this previously approved collection package. These changes are being requested to (1) provide a mechanism for a PCIP enrollee who has moved from a state-administered PCIP to quickly and efficiently enroll into the federally-administered PCIP (2) provide a mechanism for a PCIP applicant to identify a third party entity will pay their premium to ensure appropriate premium billing (3) provide a mechanism whereby a licensed insurance agent or broker may identify their referral of an applicant (4) request employer information to expand ways to identify and prevent instances of insurer dumping and (5) make clarifications to existing application language. Form Number: CMS-10334 (OCN: 0938-1095) Frequency: Once; Affected Public: Individuals or households; Number of Respondents: 83,333; Number of Responses: 83,333; Total Annual Hours: 179,499. (For policy questions regarding this collection, contact Laura Dash at 410-786-8623. For all other issues call (410) 786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on October 14, 2011

OMB, Office of Information and Regulatory Affairs, Attention: CMS Desk Officer, Fax Number: (202) 395-6974, E-mail: OIRA_submission@omb.eop.gov.

Dated: September 8, 2011.
Martique Jones,
Director, Regulations Development Group, Division B, Office of Strategic Operations and Regulatory Affairs.

[FR Doc. 2011-23429 Filed 9-13-11; 8:45 am]

BILLING CODE 4120-01-P